DEPARTMENT OF DEFENSE

Department of the Army

Environmental Assessment (EA) for the Disposal and Reuse of the Alabama Army Ammunition Plant, Talladega County, Alabama

AGENCY: Department of the Army, DoD.

ACTION: Notice of availability.

SUMMARY: The Department of the Army announces the availability of the Environmental Assessment (EA) and Finding of No Significant Impact (FNSI) for the disposal and reuse of the Alabama Army Ammunition Plant (ALAAP), located in Talladega County, Alabama. The 1988 Commission on Base Realignment and Closure established by the Defense Authorization Amendment and Base Closure and Realignment Act of 1988, Public Law 100-526, recommended the closure of ALAAP. The proposed action is the disposal of property made available by the closure of ALAAP.

DATES: Submit comments on or before October 23, 2000.

ADDRESSES: A copy of the EA or inquiries into the FNSI may be obtained by writing to Mr. Hugh McClennan, U.S. Army Corps of Engineers, Mobile District (ATTN: CESAM-PD), 109 St. Joseph Street, Mobile, AL 36602.

FOR FURTHER INFORMATION CONTACT: Mr. Hugh McClennan at (334) 694-4101 or by telefax at (334) 690-2605.

SUPPLEMENTARY INFORMATION: The EA evaluates the effects of disposal and subsequent reuse of the ALAAP which comprises approximately 2,193 acres. The Army will negotiate the transfer of 2,193 acres to the City of Childersburg, recognized Local Reuse Authority for ALAAP. The City of Childersburg has proposed establishment of the Coosa Industrial Park. Industrial and commercial activities at the site will create local jobs. The industrial park will benefit expected secondary suppliers to a new auto manufacturing plant being built in Talladega County. Three alternative methods of disposal were analyzed: encumbered disposal, unencumbered disposal and no action (i.e., retention of the property in caretaker status). The Army's preferred alternative for disposal of the ALAAP is encumbered disposal which involves conveying the property with conditions imposed pertaining to remedial activities, cemeteries, easements and rights-of-ways, groundwater use prohibition, land use restriction, floodplains, and wetlands.

The EA, which is incorporated into the FNSI, examines potential effects of the proposed action and alternatives on resource areas and areas of environmental concern: land use, climate, air quality, geology, water resources, infrastructure, hazardous and toxic substances, biological resources, cultural resources, economic development, social and economic development, and quality of life.

The EA concludes that the disposal and subsequent reuse of the property will not have a significant impact on the human environment, thus issuance of a FNSI would be appropriate. An Environmental Impact Statement is not required prior to implementation of the proposed actions.

Public review of the EA also will be available at the Childersburg Public Library, 124 19th Avenue, Childersburg, Alabama 35044.

Dated: September 18, 2000.
Raymond J. Fatz,
Deputy Assistant Secretary of the Army (Environment, Safety and Occupational Health) OASA (I&E).

[FR Doc. 00-24306 Filed 9-20-00; 8:45 am]

BILLING CODE 3710-08-M